SMALL BUSINESS ADMINISTRATION

[Declaration of Disaster #P032]

State of North Dakota

As a result of the President's major disaster declaration for Public Assistance on May 5, 2004, the U.S. Small Business Administration is activating its disaster loan program only for private non-profit organizations that provide essential services of a governmental nature. I find that Benson, Cavalier, Grand Forks, Griggs, Nelson, Pembina, Ramsey, Steele, Traill and Walsh Counties, and the Spirit Lake Indian Reservation in the State of North Dakota constitute a disaster area due to damages caused by severe storms, flooding, and ground saturation occurring on March 26, 2004, and continuing. Applications for loans for physical damage as a result of this disaster may be filed until the close of business on July 6, 2004, at the address listed below or other locally announced locations: U.S. Small Business Administration, Disaster Area 3 Office, 14925 Kingsport Road, Fort Worth, TX 76155-2243.

The interest rates are:

| Percent
For Physical Damage:
Non-Profit Organizations Without Credit Available Elsewhere: | 2.900
Non-Profit Organizations With Credit Available Elsewhere: | 4.875

The number assigned to this disaster for physical damage is P03211.

(Catalog of Federal Domestic Assistance Program Nos. 59008).
Dated: May 7, 2004.
Becky C. Brantley,
Acting Associate Administrator for Disaster Assistance.

[FR Doc. 04-10976 Filed 5-13-04; 8:45 am]

BILLING CODE 8025-01-P